DEPARTMENT OF HEALTH AND HUMAN SERVICES

National Institutes of Health

National Institute on Aging; Notice of Meeting

Pursuant to section 1009 of the Federal Advisory Committee Act, as amended, notice is hereby given of a meeting of the Board of Scientific Counselors, NIA.

The meeting will be open to the public as indicated below, with attendance limited to space available. Individuals who plan to attend and need special assistance, such as sign language interpretation or other reasonable accommodations, should notify the Contact Person listed below in advance of the meeting.

The meeting will be closed to the public as indicated below in accordance with the provisions set forth in sections 552b(c)(4) and 552b(c)(6), Title 5 U.S.C., as amended for the review, discussion, and evaluation of individual grant applications conducted by the National Institute On Aging, including consideration of personnel qualifications and performance, and the competence of individual investigators, the disclosure of which would constitute a clearly unwarranted invasion of personal privacy.

Name of Committee: Board of Scientific Counselors, NIA.

Date: March 30-31, 2026.

Closed: March 30, 2026, 8:00 a.m. to 9:00 a.m.

Agenda: Executive Session and Board Business.

Address: National Institutes of Health, National Institute on Aging, Biomedical Research Center, 3rd Floor, Room 3C211/Virtual, 251 Bayview Boulevard, Baltimore, MD 21224.

Meeting Format: Hybrid.

Open: March 30, 2026, 9:00 a.m. to 11:45 a.m.

Agenda: Review of Labs and PI's.

Address: National Institutes of Health, National Institute on Aging, Biomedical Research Center, 3rd Floor, Room 3C211/Virtual, 251 Bayview Blvd., Baltimore, MD 21224.

Meeting Format: Hybrid.

Closed: March 30, 2026, 11:45 a.m. to 2:15 p.m.

Agenda: Review of Labs and PI's; Executive Session Luncheon.

Address: National Institutes of Health, National Institute on Aging, Biomedical Research Center, 3rd Floor, Room 3C211/Virtual, ,251 Bayview Boulevard, Baltimore, MD 21224.

Meeting Format: Hybrid.

Open: March 30, 2026, 2:15 p.m. to 3:15 p.m.

Agenda: Review PI's.

Address: National Institutes of Health, National Institute on Aging, Biomedical Research Center, 3rd Floor, Room 3C211/Virtual, 251 Bayview Boulevard, Baltimore, MD 21224.

Meeting Format: Hybrid.

Closed: March 30, 2026, 3:15 p.m. to 3:30 p.m.

Agenda: Discussion with the BSC Members.

Address: National Institutes of Health, National Institute on Aging, Biomedical Research Center, 3rd Floor, Room 3C211/Virtual, 251 Bayview Boulevard, Baltimore, MD 21224.

Meeting Format: Hybrid.

Open: March 30, 2026, 3:30 p.m. to 4:15 p.m.

Agenda: Review of Labs and PI's.

Address: National Institutes of Health, National Institute on Aging, Biomedical Research Center, 3rd Floor, Room 3C211/Virtual, 251 Bayview Boulevard, Baltimore, MD 21224.

Meeting Format: Hybrid.

Closed: March 30, 2026, 4:15 p.m. to 5:30 p.m.

Agenda: Executive Session, Adjournment.

Address: National Institutes of Health, National Institute on Aging, Biomedical Research Center, 3rd Floor, Room 3C211/Virtual, 251 Bayview Boulevard, Baltimore, MD 21224.

Meeting Format: Hybrid.

Closed: March 31, 2026, 8:00 a.m. to 9:00 a.m.

Agenda: Executive Session; Board Business.

Address: National Institutes of Health, National Institute on Aging, Biomedical Research Center, 3rd Floor, Room 3C211/Virtual, 251 Bayview Boulevard, Baltimore, MD 21224.

Meeting Format: Hybrid.

Open: March 31, 2026, 9:00 a.m. to 11:00 a.m.

Agenda: Review of Labs and PI's.

Address: National Institutes of Health, National Institute on Aging, Biomedical Research Center, 3rd Floor, Room 3C211/Virtual, 251 Bayview Boulevard, Baltimore, MD 21224.

Meeting Format: Hybrid.

Closed: March 31, 2026, 11:00 a.m. to 4:30 p.m.

Agenda: Executive Session Luncheon; Review of Lab's and PI's; Executive Session; Adjournment.

Address: National Institutes of Health, National Institute on Aging, Biomedical Research Center, 3rd Floor, Room 3C211/Virtual, 251 Bayview Boulevard, Baltimore, MD 21224.

Meeting Format: Hybrid.

Contact Person: Luigi Ferrucci, M.D., Ph.D., Scientific Director, National Institute on Aging, National Institutes of Health, 251 Bayview Boulevard, Suite 100, Room 4C225, Baltimore, MD 21224, 410-558-8110, lf27z@nih.gov.

Registration is not required to attend the open portion of this meeting.

In the interest of security, NIH has procedures at https://security.nih.gov/visitors/Pages/visitor-campus-access.aspx for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

(Catalogue of Federal Domestic Assistance Program Nos. 93.866, Aging Research, National Institutes of Health, HHS)

Dated: December 18, 2025.
Margaret Vardanian,
Program Analyst, Office of Federal Advisory Committee Policy.

[FR Doc. 2025-23597 Filed 12-19-25; 8:45 am]

BILLING CODE 4140-01-P